DEPARTMENT OF HEALTH AND HUMAN SERVICES

Centers for Disease Control and Prevention

[60Day-10-0580]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Public Health Performance Standards Program Local Public Health Governance Assessment (OMB 0920-0580 exp 8/31/2010)—Extension—Office of State, Tribal, Local and Territorial Support Centers for Disease Control and Prevention (CDC).

Background and Brief Description

Office of State, Tribal, Local and Territorial Support is proposing to extend the formal, voluntary data collection that assesses the capacity of local boards of health to deliver the essential services of public health. Electronic data submission will be used when local boards of health complete the public health assessment.

A three-year approval is being sought with the current data collection instrument. The data collection instrument has been valuable in assessing performance and capacity and identifying areas for improvement.

From 1998-2002, the CDC National Public Health Performance Standards Program convened workgroups with the National Association of County and City Health Officials (NACCHO), The Association of State and Territorial Health Officials (ASTHO), the National Association of Local Boards of Health (NALBOH), the American Public Health Association (APHA), and the Public Health Foundation (PHF) to develop performance standards for public health systems based on the essential services of public health. In 2005, CDC reconvened workgroups with these same organizations to revise the data collection instruments, in order to ensure the standards remain current and improve user friendliness. There is no cost to the respondent, other than their time.

Estimated Annualized Burden Hours
Number of respondents | Number of responses per respondent | Average burden per response (in hours) | Total burden hours
175 | 1 | 5 | 875

Date: March 11, 2010.
Maryam I. Daneshvar,
Acting Reports Clearance Officer, Centers for Disease Control and Prevention.

[FR Doc. 2010-5929 Filed 3-17-10; 8:45 am]

BILLING CODE 4163-18-P